FEDERAL MARITIME COMMISSION

Ocean Transportation Intermediary License Reissuance

Pursuant to the Commission's direct rule (79 FR 56522, September 22, 2014), beginning October 20, 2014, these notices will no longer be posted in the Federal Register. After October 20, 2014, this information will be available on the Commission's Web site at http://www.fmc.gov, see OTI Licensing Updates.

The Commission gives notice that the following Ocean Transportation Intermediary license has been reissued pursuant to section 19 of the Shipping Act of 1984 (46 U.S.C. 40101).

License No.: 023569N.

Name: Fachel International LLC dba Fachel Shipping and Logistics.

Address: 6331 Belair Road, Baltimore, MD 21206.

Date Reissued: September 30, 2014.

Sandra L. Kusumoto,
Director, Bureau of Certification and Licensing.

[FR Doc. 2014-25124 Filed 10-21-14; 8:45 am]

BILLING CODE 6730-01-P